DEPARTMENT OF ENERGY

Federal Energy Regulatory Commission

[Docket No. RP04-360-001]

Maritimes & Northeast Pipeline, L.L.C.; Notice of Compliance Filing

November 5, 2004.

Take notice that on November 1, 2004, Maritimes & Northeast Pipeline, L.L.C. (Maritimes) submitted a report on technical conference and compliance filing pursuant to the Commission's July 29, 2004, order in Docket No. RP04-360-000. Maritimes states that following two technical conferences in this proceeding regarding Maritimes' non-rate tariff proposals and further discussions with the parties, Maritimes agreed to make certain revisions to the non-rate tariff proposals in its June 30, 2004, filing in this proceeding. Maritimes further states that the tariff sheets included with this filing reflect such revisions. Maritimes has proposed an effective date of December 1, 2004, for these revised tariff sheets.

Maritimes states that copies of the filing were served on parties on the official service list in the above-captioned proceeding, as well as all customers and interested state commissions.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3219 Filed 11-17-04; 8:45 am]

BILLING CODE 6717-01-P